DEPARTMENT OF THE INTERIOR

Bureau of Ocean Energy Management (BOEM)

Notice of Availability of the Proposed Notice of Sale (NOS) for Western Gulf of Mexico Planning Area (WPA) Outer Continental Shelf (OCS) Oil and Gas Lease Sale 238 (WPA Sale 238); MMAA 104000

AGENCY: Bureau of Ocean Energy Management, Interior.

ACTION: Notice of Availability of the Proposed Notice of WPA Sale 238.

SUMMARY: BOEM announces the availability of the Proposed NOS for proposed WPA Sale 238. This Notice is published pursuant to 30 CFR 556.29(c) as a matter of information to the public. With regard to oil and gas leasing on the OCS, the Secretary of the Interior, pursuant to section 19 of the OCS Lands Act, provides affected States the opportunity to review the Proposed NOS. The Proposed NOS sets forth the proposed terms and conditions of the sale, including minimum bids, royalty rates, and rental rates.

DATES: Affected States may comment on the size, timing, and location of proposed WPA Sale 238 within 60 days following their receipt of the Proposed NOS. The Final NOS will be published in the Federal Register at least 30 days prior to the date of bid opening. Bid opening currently is scheduled for August 20, 2014.

SUPPLEMENTARY INFORMATION: The Proposed NOS for WPA Sale 238 and a “Proposed Notice of Sale Package” containing information essential to potential bidders may be obtained from the Public Information Unit, Gulf of Mexico Region, Bureau of Ocean Energy Management, 1201 Elmwood Park Boulevard, New Orleans, Louisiana 70123-2394. Telephone: (504) 736-2519. The Proposed NOS and “Proposed Notice of Sale Package” also are available on BOEM's Web site at http://www.boem.gov/Sale-238/.

Agency Contact: Robert Samuels, Chief, Leasing Division, Robert.Samuels@boem.gov.

Dated: April 7, 2014.
Tommy P. Beaudreau,
Director, Bureau of Ocean Energy Management.

[FR Doc. 2014-08305 Filed 4-15-14; 8:45 am]

BILLING CODE 4310-MR-P